DEPARTMENT OF ENERGY

Federal Energy Regulatory Commission

[Docket Nos. CP07-398-000; CP07-399-000; CP07-400-000; CP07-401-000; CP07-402-000; CP07-403-000]

Gulf Crossing Pipeline Company LLC; Gulf South Pipeline Company, LP; Enogex Inc.; Notice of Meeting

January 24, 2008.

On January 30, 2008, staff of the Office of Energy Projects (OEP) will hold a meeting on the pending applications in the above referenced dockets. The purpose of the meeting is to discuss various procedural, tariff, and environmental matters.

The meeting will be held on Wednesday, January 30, 2008 at 2:30 p.m. (EST), in Room 62-26 at the Commission Headquarters in Washington, DC, and is open to the public.

Kimberly D. Bose,
Secretary.

[FR Doc. E8-1638 Filed 1-29-08; 8:45 am]

BILLING CODE 6717-01-P